DEPARTMENT OF THE TREASURY

Internal Revenue Service

26 CFR Part 1

[REG-107101-00]

RIN 1545-AY13

Treaty Guidance Regarding Payments With Respect to Domestic Reverse Hybrid Entities; Correction

AGENCY: Internal Revenue Service (IRS), Treasury.

ACTION: Correction to notice of proposed rulemaking.

SUMMARY: This document contains a correction to a notice of proposed rulemaking that was published in the Federal Register on Tuesday, February 27, 2001 (66 FR 12445), relating to treaty guidance regarding payments with respect to domestic reverse hybrid entities.

FOR FURTHER INFORMATION CONTACT: Elizabeth U. Karzon or Karen Rennie-Quarrie at (202) 622-3880 (not a toll-free number).

SUPPLEMENTARY INFORMATION:

Background

The notice of proposed rulemaking (REG-107101-00) that is the subject of this correction is under section 894 of the Internal Revenue Code.

Need for Correction

As published the notice of proposed rulemaking contains an error that may prove to be misleading and is in need of clarification.

Correction of Publication

Accordingly, the publication of the notice of proposed rulemaking which was the subject of FR Doc. 01-1687, is corrected as follows:

PART 1—INCOME TAXES

On page 12447, column 2, following amendatory instruction Paragraph 1, correct the authority citation to read as follows:

Authority: 26 U.S.C. 7805 * * *

Section 1.894-1(d)(2) also issued under 26 U.S.C. 894 and 7701(l). * * *

Cynthia E. Grigsby,
Chief, Regulations Unit, Office of Special Counsel (Modernization & Strategic Planning).

[FR Doc. 01-5958 Filed 3-9-01; 8:45 am]

BILLING CODE 4830-01-P